DEPARTMENT OF THE INTERIOR

National Park Service

[NPS-PWR-PWRO-12639; PPPWCHISM0.PPMOMFM1Z.Y00000]

Scorpion Pier Replacement Project, Channel Islands National Park, Santa Barbara County, California

AGENCY: National Park Service, Interior.

ACTION: Notice of Intent to Prepare an Environmental Impact Statement.

SUMMARY: Pursuant to § 102(2)(C) of the National Environmental Policy Act of 1969 (NEPA), and pursuant to the Council on Environmental Quality Regulations (40 CFR part 1500-08), the National Park Service (NPS) is initiating the conservation planning and environmental impact analysis process for the proposed replacement and potential relocation of the existing Scorpion Pier at Santa Cruz Island's eastern waterfront. The NPS is the lead federal agency for environmental review under NEPA. The lead state agency for environmental review under the California Environmental Quality Act is currently being determined. As described in 36 CFR 800.8(c), the NPS is also using the NEPA process to fulfill certain provisions of § 106 of the National Historic Preservation Act related to consultation and public involvement.

DATES: All written comments must be postmarked or transmitted no later than July 29, 2013.

ADDRESSES: Submit comments by mail to Superintendent, Channel Islands National Park, Attn: Scorpion Pier Project, 1901 Spinnaker Drive, Ventura, CA 93001 or electronically to http://parkplanning.nps.gov/parkHome.cfm?parkID=292).

FOR FURTHER INFORMATION CONTACT: Karl Bachman, Facility Manager, Channel Island National Park, at (805) 658-5710.

Background: Santa Cruz Island and the surrounding one nautical mile of marine waters are located in Channel Islands National Park. The NPS owns and manages the eastern 24% of the island, including the Scorpion Valley area. Santa Cruz Island is surrounded by the Channel Islands National Marine Sanctuary which extends six nautical miles from the island. The Scorpion Pier is also within the Scorpion State Marine Reserve designated by the State of California. Over 55,000 people come ashore at the Scorpion pier annually for recreational activities including hiking, picnicking, camping, kayaking, and swimming. Many people also visit the island's historic Scorpion Ranch.

The existing Scorpion Pier is a flatbed railcar that was installed as a temporary facility in 2000. The pier is rapidly deteriorating due to wave action and saltwater. It has been closed numerous times due to weather hazards and to perform required repair and maintenance activities. The pier sometimes cannot be used by park or concession boats, such as during low tides, because of inadequate water depth. The existing pier access road undergoes reconstruction several times per year due to wave erosion.

Purpose and Need and Preliminary Alternatives: The NPS seeks to construct a permanent replacement pier that provides a safe, accessible, efficient, and sustainable access point for visitors and Park staff to Santa Cruz Island. Additionally, the NPS intends that this replacement pier, along with proposed improvements to the access road, will decrease future impacts to the island's sensitive archaeological resources. Permanent replacement of the pier is required due to the following current conditions:

• Shallow water depths at the pier, especially during low tide;

• Difficult vessel navigation and mooring during moderate to extreme wind and wave conditions;

• Challenging and limited access for visitors embarking from ferries onto the pier and from the pier onto the ferries;

• Narrow width of the existing pier inhibits efficient visitor and cargo circulation;

• Frequent maintenance required to the pier access road, which threatens to expose or damage sensitive resources;

• The existing temporary pier is reaching the end of its anticipated lifespan.

The objectives of the proposed pier replacement project include:

• Improving navigational access;

• Improving access and circulation for passengers, cargo, and park operations;

• Protecting marine and terrestrial environments;

• Preserving archaeological resources;

• Preserving and enhancing the historic character of the area.

To meet the purpose, need, and objectives, two preliminary alternatives identified thus far include replacing the pier in its existing location, and replacing the pier at a location approximately 150 feet to the south. If the pier is replaced in its present location, this would include some shoreline armoring to protect the pier access road. If a new pier is constructed to the south, the pier would span the beach and shoreline, and it would require only a short access road with a small amount of scour protection. In either location, the new pier will need to be longer and higher than the existing pier to facilitate safer vessel mooring in deeper water.

Comments and Public Scoping: The purpose of the scoping phase is to elicit comments from interested individuals, organizations, and agencies about issues and concerns about the proposed project in order to inform the development of the Draft EIS. Public scoping meetings are tentatively scheduled for late Spring or Summer 2013 in Ventura and Santa Barbara counties. Concurrent with the publishing of this Notice of Intent in the Federal Register, the confirmed dates, times, and locations of the scoping meetings will be publicized through local and regional news media and via the project Web site http://www.nps.gov/chis/parkmgmt/scorpion-pier-replacement.htm. The project Web site will be periodically updated, and provides relevant information, including the project description, current information about the EIS process, meeting notices, reports and documents, and useful links associated with the project.

Before including your address, phone number, email address, or other personal identifying information in your comment, you should be aware that your entire comment—including your personal identifying information—may be made publicly available at any time. While you can ask us in your comment to withhold your personal identifying information from public review, we cannot guarantee that we will be able to do so.

Decision Process: At this time, it is anticipated that the Draft EIS will be available for public review during Winter 2013. Availability of the Draft EIS for review will be formally announced in the Federal Register, through local and regional news media, and via the project Web site. Public meetings will be held after the Draft EIS is distributed to provide further opportunities to comment on the document. The Final EIS is anticipated to be completed in 2014. Because this is a delegated EIS, the official responsible for the final decision regarding the proposed pier replacement is the Regional Director, Pacific West Region. Subsequently, the official responsible for implementation of the approved project will be the Channel Islands National Park.

Dated: March 15, 2013.
Christine S. Lehnertz,
Regional Director, Pacific West Region.

[FR Doc. 2013-12745 Filed 5-28-13; 8:45 am]

BILLING CODE 4312-FF-P